DEPARTMENT OF ENERGY

Federal Energy Regulatory Commission

[Docket No. RP05-565-000]

Natural Gas Pipeline Company of America; Notice of Emergency Petition for Waivers

August 18, 2005.

Take notice that on August 16, 2005, Natural Gas Pipeline Company of America (Natural), pursuant to Rule 207 of the Federal Energy Regulatory Commission's Rules of Practice and Procedure, submitted an emergency petition for waivers to help its shippers respond to what it states is a force majeure situation that will temporarily reduce capacity on a portion of Natural's system. Natural requests that the Commission grant this petition by no later than August 23, 2005 to allow its “customers and the market generally to mitigate the impact of the capacity reduction”.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Comment Date: 5 p.m. Eastern Time on August 22, 2005.

Linda Mitry,
Deputy Secretary.

[FR Doc. E5-4639 Filed 8-24-05; 8:45 am]

BILLING CODE 6717-01-P